DEPARTMENT OF COMMERCE

National Oceanic and Atmospheric Administration

[I.D. 111005F]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Advisory Panel, a joint meeting of its Snapper Grouper Advisory Panel and Snapper Grouper Committee, and a joint meeting of its Snapper Grouper Advisory Panel, Snapper Grouper Committee, and Controlled Access Committee. The Council will also hold a meeting of its Snapper Grouper Committee, Controlled Access Committee, Scientific and Statistical Selection Committee, Southeast Data, Assessment, and Review (SEDAR) Committee, Joint Executive and Finance Committees, Personnel Committee (CLOSED SESSION) and a meeting of the full Council. In addition, the Council will hold a public hearing and public comment periods as part of the meeting.

DATES: The meeting will be held in December 2005. See SUPPLEMENTARY INFORMATION for specific dates and times.

ADDRESSES: The meeting will be held at the Courtyard Marriott, 100 Charlotte Avenue, Carolina Beach, NC 28428; Telephone: (1-800) 458-3606 or 910/458-2030, FAX 910/458-2050.

Copies of documents are available from Kim Iverson, Public Information Officer, South Atlantic Fishery Management Council, One Southpark Circle, Suite 306, Charleston, SC 29407-4699.

FOR FURTHER INFORMATION CONTACT: Kim Iverson, Public Information Officer; telephone: 843/571-4366 or toll free at 866/SAFMC-10; fax: 843/769-4520; email: kim.iverson@safmc.net.

SUPPLEMENTARY INFORMATION:

Meeting Dates

1. Council Session: December 5, 2005, 10 a.m.-12 noon

From 10:00 a.m.-10:15 a.m., the Council will call the meeting order, make introductions and roll call, adopt the meeting agenda, and approve earlier meeting minutes.

From 10:15 a.m.-12 noon, the Council will meet to consider provisions in the Gulf of Mexico Fishery Management Council's Essential Fish Habitat Amendment that amends the joint South Atlantic and Gulf Council Coastal Migratory Pelagic and Spiny Lobster Fishery Management Plans (FMPs). Public comment on the amendment will be held at 10:15 a.m. The Council will also consider the Gulf of Mexico Council's Generic Amendment that amends the joint South Atlantic and Gulf Council Coastal Migratory Pelagics FMP (establishes a limited entry system for the Gulf reef fish and South Atlantic and Gulf coastal migratory pelagic charter/headboat permits). Public comment on the amendment will be held at 10:15 a.m. The Council is scheduled to take final action regarding these amendments. The Council will then recess until December 8, 2005.

2. Snapper Grouper Advisory Panel Meeting: December 5, 2005, 1:30 p.m.-5:30 p.m.

The Snapper Grouper Advisory Panel will meet to review and develop recommendations regarding Amendment 13C to the Snapper Grouper Fishery Management Plan. The amendment addresses management measures for snowy grouper, golden tilefish, vermilion snapper, black sea bass, and red porgy. In addition, the Advisory Panel will review issues and provide recommendations relative to the draft of Amendment 13B to the Snapper Grouper Fishery Management Plan regarding mandates under the Sustainable Fisheries Act to address overfishing. The Snapper Grouper Advisory Panel will also discuss options for controlled access for the commercial fishery.

6 p.m.-Public Hearing for Amendment 13C to the Snapper Grouper Fishery Management Plan

3. Joint Snapper Grouper Committee and Snapper Grouper Advisory Panel Meeting: December 6, 2005, 8:30 a.m.-12 noon

The Snapper Grouper Committee and Advisory Panel will meet jointly to review and develop recommendations regarding Snapper Grouper Amendment 13C. During the joint meeting, members will review and discuss comments received during a series of public hearings, Law Enforcement Committee recommendations, Snapper Grouper Advisory Panel recommendations, and Scientific and Statistical Committee (SSC) input. The Committee and AP will also develop recommendations for final alternatives to be included in Amendment 13B to the Snapper Grouper FMP after reviewing reports from the Snapper Grouper Advisory Panel, Law Enforcement Committee, SSC, and staff.

4. Joint Snapper Grouper Committee, Snapper Grouper Advisory Panel, and Controlled Access Committee Meeting: December 6, 2005, 1:30 p.m. until 5 p.m.

During the joint meeting, members will receive presentations on topics relevant to controlled access, including an introduction to Dedicated Access Privilege Programs (DAPPs), a review of the Council's Wreckfish Individual Fishing Quota (IFQ) Program, the Gulf of Mexico Council's Red Snapper IFQ Program, analysis of fishing effort shifts in North Carolina, and the potential for DAPPs for the south Atlantic. Members will discuss these issues and the Advisory Panel will formulate recommendations.

5. Snapper Grouper Committee Meeting: December 7, 2005, 8:30 a.m. until 12 noon.

The Snapper Grouper Committee will develop recommendations for finalizing Amendment 13C to the Snapper Grouper FMP for submission to the Secretary of Commerce. In addition, the Committee will finalize its recommendations for management alternatives to be included in Amendment 13B to the FMP, and develop recommendations based on input from the Snapper Grouper Advisory Panel regarding controlled access for the fishery. The recommendations will be forwarded to the Controlled Access Committee for consideration.

6. Controlled Access Committee Meeting: December 7, 2005, 1:30 p.m.-3:30 p.m.

The Controlled Access Committee will review recommendations from the Snapper Grouper Committee and the Snapper Grouper Advisory Panel regarding controlled access and develop recommendations for a timeline for developing a snapper grouper IFQ program.

7. Scientific and Statistical Selection Committee Meeting: December 7, 2005, 3:30 p.m.-5 p.m.

The Scientific and Statistical Selection Committee will review policy recommendations and discuss.

8. SEDAR Committee Meeting: December 8, 2005, 8:30 a.m.-10:30 a.m.

The SEDAR Committee will receive a report on the status of the SEDAR stock assessment review process and the results of the August SEDAR Steering Committee meeting. The Committee will also review terms of reference for the gag full assessment and red porgy update, and discuss the use of stock assessment models.

9. Joint Executive/Finance Committees Meeting: December 8, 2005, 10:30 a.m.-12 noon

The Executive Committee will meet jointly with the Finance Committee and receive updates on the Council's Calendar Year (CY) 2005 budget and the Fiscal Year 2006 Congressional budget. The Committees will then establish timelines for the Council's CY 2006 FMP/Amendment/Framework schedule and develop the CY 2006 budget.

10. Personnel Committee Meeting (CLOSED SESSION): December 8, 2005, 1:30 p.m.-2:30 p.m.

11. Council Session: December 8, 2005, 2:30 p.m.-5:30 p.m. and December 9, 2005, 8:30 a.m.-12 noon

From 2:30 p.m.-3 p.m., the Council will receive a report from its Law -Enforcement Committee and take action as appropriate.

From 3 p.m.-4 p.m., the Council will receive a report from its Snapper Grouper Committee and approve Amendment 13C for submission to the Secretary of Commerce. The Council will also finalize a list of management alternatives for Amendment 13B to the Snapper Grouper FMP. Note: A public comment period on Amendment 13C will be held at 2:00 p.m.

From 4 p.m.-4:30 p.m., the Council will receive a report from the Controlled Access Committee and take action as appropriate.

From 4:30 p.m.-5 p.m., the Council will hear a report from the Scientific and Statistical Selection Committee and take other action as appropriate.

From 5 p.m.-5:30 p.m., the Council will hear a report from the SEDAR Committee and take action as appropriate.

Council Session: December 9, 2005, 8:30 a.m.-12 noon.

From 8:30 a.m.-9 a.m., the Council will receive a report from the Joint Executive/Finance Committee and take action as appropriate.

From 9 a.m.-9:30 a.m., the Council will receive a briefing from NOAA General Counsel on Litigation issues. (CLOSED SESSION)

From 9:30 a.m.-10 a.m., the Council will receive a report on the Council Chairmen/National Marine Fisheries Service Leadership meeting.

From 10 a.m.-12 noon, the Council will receive status reports from NOAA Fisheries' Southeast Regional Office, NOAA Fisheries' Southeast Fisheries Science Center, agency and liaison reports, and discuss other business including upcoming meetings. Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by November 30, 2005.

November 10, 2005.
Tracey Thompson,
Acting Director, Office of Sustainable Fisheries, National Marine Fisheries Service.

[FR Doc. E5-6314 Filed 11-15-05; 8:45 am]

BILLING CODE 3510-22-S